DEPARTMENT OF TRANSPORTATION

Federal Aviation Administration

14 CFR Part 71

[Docket No. FAA-2016-9421; Airspace Docket No. 16-ASW-17]

Proposed Establishment Class E Airspace; Cisco, TX

AGENCY: Federal Aviation Administration (FAA), DOT.

ACTION: Notice of proposed rulemaking (NPRM), withdrawal.

SUMMARY: This action withdraws the NPRM published in the Federal Register on March 13, 2017, proposing to establish Class E airspace extending upward from 700 feet above the surface at Gregory M. Simmons Memorial Airport, Cisco, TX. The FAA has determined that withdrawal of that NPRM is warranted as the airport does not meet the requirements for the airspace at this time.

DATES: Effective date: 0901 UTC, June 8, 2017.

FOR FURTHER INFORMATION CONTACT: Jeffrey Claypool, Federal Aviation Administration, Operations Support Group, Central Service Center, 10101 Hillwood Parkway, Fort Worth, TX 76177; telephone (817) 222-5711.

SUPPLEMENTARY INFORMATION:

History

An NPRM was published in the Federal Register on March 13, 2017 (82 FR 13409) Docket No. FAA-2016-9421, to amend Title 14 Code of Federal Regulations (14 CFR) part 71 by establishing Class E airspace extending upward from 700 feet above the surface at Gregory M. Simmons Memorial Airport, Cisco, TX. The proposed action was to accommodate a new special instrument approach procedure at the airport. A further review of the airport determined that it was not part 139 certified, as required by FAA Order 8260.19G, Flight Procedures and Airspace, and that the overlying air traffic control facility does not require the establishment of Class E airspace extending upward from 700 feet above the surface at the airport to accommodate the instrument approach procedure at this time. Therefore, the FAA is withdrawing the NPRM.

List of Subjects in 14 CFR Part 71

Airspace, Incorporation by reference, Navigation (air).

The Withdrawal

In consideration of the foregoing, the NPRM for FR Doc. FAA-2016-9421, Airspace Docket No. 16-ASW-17, as published in the Federal Register of March 13, 2017 (82 FR 13409) FR Doc. 2017-04793, is hereby withdrawn.

Authority: 49 U.S.C. 106(f), 106(g); 40103, 40113, 40120; E.O. 10854; 24 FR 9565, 3 CFR, 1959-1963 Comp., p. 389.

Issued in Fort Worth, TX, on May 31, 2017.
Robert W. Beck,
Manager, Operations Support Group, ATO Central Service Center.

[FR Doc. 2017-11677 Filed 6-7-17; 8:45 am]

BILLING CODE 4910-13-P